DEPARTMENT OF TRANSPORTATION

Federal Aviation Administration

14 CFR Part 39

[Docket No. 2002-NE-39-AD; Amendment 39-13169; AD 2003-11-10]

RIN 2120-AA64

Airworthiness Directives; Turbomeca S.A. Arrius -2F Turboshaft Engines

AGENCY: Federal Aviation Administration, DOT.

ACTION: Final rule.

SUMMARY: This amendment adopts a new airworthiness directive (AD), that is applicable to Turbomeca S.A. Arrius -2F turboshaft engines with certain serial number (SN) Fuel Control Units (FCUs). This amendment requires adjusting the FCU maximum fuel flow mechanical stop position to a higher fuel flow setting. This amendment is prompted by an FCU discovered to have a maximum fuel flow limit adjusted below the maximum required setting. The actions specified by this AD are intended to prevent reduced maximum available power during takeoff, landing, or an emergency, which could significantly affect helicopter performance and result in loss of the helicopter.

DATES: Effective July 3, 2003. The incorporation by reference of certain publications listed in the regulations is approved by the Director of the Federal Register as of July 3, 2003.

ADDRESSES: The service information referenced in this AD may be obtained from Turbomeca S.A., 64511 Bordes Cedex, France; telephone 33 05 59 64 40 00, fax 33 05 59 64 60 80. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Antonio Cancelliere, Aerospace Engineer, Engine Certification Office, FAA, Engine and Propeller Directorate, 12 New England Executive Park, Burlington, MA 01803-5299; telephone (781) 238-7751; fax (781) 238-7199.

SUPPLEMENTARY INFORMATION: A proposal to amend part 39 of the Federal Aviation Regulations (14 CFR part 39) to include an AD that is applicable to Turbomeca S.A. Arrius -2F turboshaft engines with certain SN FCUs was published in the Federal Register on February 5, 2003 (68 FR 5856). That action proposed to require adjusting the FCU maximum fuel flow mechanical stop position to a higher fuel flow setting in accordance with Alert Service Bulletin (ASB) No. A319 73 4808, dated September 1, 2000.

Comments

Interested persons have been afforded an opportunity to participate in the making of this amendment. No comments were received on the proposal or the FAA's determination of the cost to the public. The FAA has determined that air safety and the public interest require the adoption of the rule as proposed.

Economic Analysis

There are approximately 334 Turbomeca S.A. Arrius -2F turboshaft engines of the affected design in the worldwide fleet. The FAA estimates that four engines installed on aircraft of U.S. registry will be affected by this AD, that it will take approximately three work hours per engine to perform the required actions, and that the average labor rate is $60 per work hour. Required tooling would cost approximately $300 per engine. Based on these figures, the total cost of the AD to U.S. operators is estimated to be $1,920. The manufacturer has advised the FAA and Direction Generale de L'Aviation Civile, which is the airworthiness authority for France, that the operator may be provided with material and tooling at no cost to the operator, thereby substantially reducing the cost of the AD.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-11-10 Turbomeca S.A.: Amendment 39-13169. Docket No. 2002-NE-39-AD.

Applicability: This airworthiness directive (AD) is applicable to Turbomeca S.A. Arrius -2F turboshaft engines with Fuel Control Units (FCUs) part numbers (P/Ns) 0 319 92 832 0, 0 319 92 830 0, and 0 319 92 825 0, with FCU serial numbers (SNs) in the following Table 1:

Table 1.—Affected FCU Serial Numbers
102B | 135B | 166B
103B | 136B | 167B
104B | 137B | 168B
105B | 138B | 169B
106B | 139B | 171B
107B | 140B | 173B
108B | 141B | 174B
110B | 142B | 175B
111B | 143B | 176B
112B | 144B | 177B
113B | 145B | 178B
114B | 146B | 180B
115B | 148B | 181B
116B | 149B | 182B
118B | 150B | 183B
120B | 153B | 185B
122B | 155B | 186B
123B | 156B | 190B
124B | 158B | 191B
126B | 159B | 193B
129B | 161B | 199B
132B | 164B | N/A
133B | 165B | N/A

These engines are installed on, but not limited to Eurocopter 120B “Colibri” helicopters.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required within 120 days after the effective date of this AD, unless already done.

To prevent reduced maximum available power during takeoff, landing, or an emergency, which could significantly affect helicopter performance, and result in loss of the helicopter, do the following:

(a) For FCUs listed in the applicability of this AD, adjust the maximum fuel flow mechanical stop position to a higher fuel flow setting, in accordance with paragraphs 2.A.(1) and 2.B.(1) of Turbomeca S.A Alert Service Bulletin (ASB) No. A319 73 4808, dated September 1, 2000.

(b) Perform a ground run check and a check flight in accordance with paragraph 2.C.(1) of Turbomeca S.A ASB No. A319 73 4808, dated September 1, 2000.

Alternative Methods of Compliance

(c) An alternative method of compliance or adjustment of the compliance time that provides an acceptable level of safety may be used if approved by the Manager, Engine Certification Office (ECO). Operators must submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the helicopter to a location where the requirements of this AD can be done.

Documents That Have Been Incorporated by Reference

(e) The actions must be done in accordance with Turbomeca S.A. Alert Service Bulletin No. A319 73 4808, dated September 1, 2000. This incorporation by reference was approved by the Director of the Federal Register in accordance with 5 U.S.C. 552(a) and 1 CFR part 51. Copies may be obtained from Turbomeca S.A., 64511 Bordes Cedex, France; telephone 33 05 59 64 40 00, fax 33 05 59 64 60 80. Copies may be inspected at the FAA, New England Region, Office of the Regional Counsel, 12 New England Executive Park, Burlington, MA; or at the Office of the Federal Register, 800 North Capitol Street, NW, suite 700, Washington, DC.

Note 3: The subject of this AD is addressed in Direction Generale de L'Aviation Civile AD 2000-482(A), dated November 29, 2000.

Effective Date

(f) This amendment becomes effective on July 3, 2003.

Issued in Burlington, Massachusetts, on May 20, 2003.
Francis A. Favara,
Acting Manager, Engine and Propeller Directorate, Aircraft Certification Service.

[FR Doc. 03-13114 Filed 5-28-03; 8:45 am]

BILLING CODE 4910-13-P